DEPARTMENT OF COMMERCE

Foreign-Trade Zones Board

[B-48-2018]

Foreign-Trade Zone (FTZ) 176—Rockford, Illinois; Authorization of Production Activity Leading Americas Inc. (Wire Harnesses), Hampshire, Illinois

On July 16, 2018, Leading Americas Inc. submitted a notification of proposed production activity to the FTZ Board for its facility within FTZ 176—Site 17, in Hampshire, Illinois.

The notification was processed in accordance with the regulations of the FTZ Board (15 CFR part 400), including notice in the Federal Register inviting public comment (83 FR 34825, July 23, 2018). On November 13, 2018, the applicant was notified of the FTZ Board's decision that no further review of the activity is warranted at this time. The production activity described in the notification was authorized, subject to the FTZ Act and the FTZ Board's regulations, including Section 400.14.

Dated: November 13, 2018.
Elizabeth Whiteman,
Acting Executive Secretary.

[FR Doc. 2018-25148 Filed 11-16-18; 8:45 am]

BILLING CODE 3510-DS-P